DEPARTMENT OF THE INTERIOR

Bureau of Land Management

[LLCAN03900 L17110000.DU0000.15X]

Notice of Intent To Amend the Resource Management Plan for the Headwaters Forest Reserve, California, and Prepare an Associated Environmental Assessment

AGENCY: Bureau of Land Management, Interior.

ACTION: Notice of intent.

SUMMARY: In compliance with the National Environmental Policy Act of 1969, as amended (NEPA), and the Federal Land Policy and Management Act of 1976, as amended, the Bureau of Land Management (BLM) Arcata Field Office, Arcata, California, intends to prepare a Resource Management Plan (RMP) amendment with an associated Environmental Assessment (EA) for the Headwaters Forest Reserve and by this notice is announcing the beginning of the scoping process to solicit public comments and identify issues. As the Headwaters Forest Reserve is jointly managed by the BLM and the California Department of Fish and Wildlife (CDFW), the BLM and CDFW intend to concurrently prepare a negative declaration under the California Environmental Quality Act (CEQA).

DATES: This notice initiates the public scoping process for the RMP amendment with an associated EA. Comments on issues may be submitted in writing until September 23, 2015. The date(s) and location(s) of any scoping meetings will be announced at least 15 days in advance through local news media, newspapers and the BLM Web site at: http://www.blm.gov/ca/st/en/fo/arcata/headwaters.html. In order to be included in the analysis, all comments must be received prior to the close of the 30-day scoping period or 15 days after the last public meeting, whichever is later. We will provide additional opportunities for public participation as appropriate.

ADDRESSES: You may submit comments on issues and planning criteria related to the Headwaters Forest Reserve Resource Management Plan Amendment/EA by any of the following methods:

• Email: headwaters@blm.gov.

• Fax: 707-825-2301.

• Mail: 1695 Heindon Road, Arcata, CA 95521.

Documents pertinent to this proposal may be examined at the Arcata Field Office, 1695 Heindon Road, Arcata, CA.

FOR FURTHER INFORMATION CONTACT: Benjamin Blom, Headwaters Manager, 707-825-2300; 1695 Heindon Road, Arcata, CA 95521, bblom@blm.gov. Contact Mr. Blom to have your name added to our mailing list. Persons who use a telecommunications device for the deaf (TDD) may call the Federal Information Relay Service (FIRS) at 800-877-8339, to contact the above individual during normal business hours. The FIRS is available 24 hours a day, 7 days a week, to leave a message or question with the above individual. You will receive a reply during normal business hours.

SUPPLEMENTARY INFORMATION: This document provides notice that the BLM Arcata Field Office, Arcata, California, intends to prepare an RMP amendment with an associated EA for the Headwaters Forest Reserve, announces the beginning of the scoping process, and seeks public input on issues and planning criteria. As the Headwaters Forest Reserve is jointly managed by the BLM and the CDFW, the BLM and CDFW intend to concurrently prepare an EA under NEPA and a negative declaration under CEQA. The planning area is located in Humboldt County, California, and encompasses approximately 7,500 acres of public land. The purpose of the public scoping process is to determine relevant issues that will influence the scope of the environmental analysis, including alternatives, and guide the planning process. Preliminary issues for the plan amendment area have been identified by BLM personnel; Federal, State, and local agencies; and other stakeholders. The issues include forest ecology, fuels, and wildlife habitat. Preliminary planning criteria are that: The plan amendment will focus exclusively on forest restoration and related programs in the Headwaters Forest Reserve; the plan amendment will be compatible with the existing plans and policies of local, State, and Federal agencies with an interest in the Headwaters Forest Reserve; the plan amendment will be consistent with the State of California Ecological Reserve Regulations; and that all proposed management actions and alternatives will consider current scientific information, research and technology, and inventory and monitoring information. You may submit comments on issues and planning criteria in writing to the BLM at any public scoping meeting, or you may submit them to the BLM using one of the methods listed in the ADDRESSES section above. To be most helpful, you should submit comments by the close of the 30-day scoping period or within 15 days after the last public meeting, whichever is later.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating are invited to participate in the scoping process and, if eligible, may request or be asked by the BLM to participate in the development of the environmental analysis as a cooperating agency. Before including your address, phone number, email address, or other personal identifying information in your comment, you should be aware that your entire comment, including your personal identifying information, may be made publicly available at any time. While you can ask us in your comment to withhold your personal identifying information from public review, we cannot guarantee that we will be able to do so. The minutes and list of attendees for each scoping meeting will be available to the public and open for 30 days after the meeting to any participant who wishes to clarify the views he or she expressed. The BLM will evaluate identified issues to be addressed in the plan, and will place them into one of three categories:

1. Issues to be resolved in the plan amendment;

2. Issues to be resolved through policy or administrative action; or

3. Issues beyond the scope of this plan amendment.

The BLM will provide an explanation in the Draft Plan Amendment/EA as to why an issue was placed in category two or three. The public is also encouraged to help identify any management questions and concerns that should be addressed in the plan. The BLM will work collaboratively with interested parties to identify the management decisions that are best suited to local, regional, and national needs and concerns.

The BLM will use an interdisciplinary approach to develop the plan amendment in order to consider the variety of resource issues and concerns identified. Specialists with expertise in the following disciplines will be involved in the planning process: forest ecology, wildlife biology, fire and fuels management, fish biology, geology, botany, and hydrology.

Authority: 40 CFR 1501.7 and 43 CFR 1610.2.

Thomas Pogacnik,
Deputy State Director.

[FR Doc. 2015-20711 Filed 8-21-15; 8:45 am]

BILLING CODE 4310-40-P